DEPARTMENT OF HEALTH AND HUMAN SERVICES

Indian Health Service

Request for Public Comment: 30 Day; Proposed Collection: Evaluation of the Indian Health Service/Bureau of Indian Affairs Training Practitioners Project

SUMMARY: In compliance with Section 3507(a)(1)(D) of the Paperwork Reduction Act of 1995, for opportunity for public comment on proposed information collection projects, the Indian Health Service (IHS) has submitted to the Office of Management and Budget (OMB) a request to review and approve the information collection listed below. This proposed information collection project was published in the January 14, 1999, Federal Register (65 FR 2417) and allowed 60 days for public comment. No public comment was received in response to the notice. The purpose of this notice is to allow 30 days for public comment to be submitted to OMB.

Proposed Collection

Title: 09-17-0000, “Evaluation of the Indian Health Service/Bureau of Indian Affairs Training Practitioners Project”.

Type of Information Collection Request: New collection. Form Number: None. Need and Use of Information Collection: The purpose of the proposed data collection is to evaluate and assess the overall effectiveness of the Indian Health Service (IHS) and Bureau of Indian Affairs (BIA) inter-agency sponsored national training project titled, “IHS/BIA Training Practitioners in the Assessment and Treatment of Adolescent Sexual Perpetrators,” conducted from 1993-1996 in 18 American Indian/Alaska Native (AI/AN) communities. The training project was established to provide mental health practitioners in AI/AN communities specialized training for the provision of mental health assessment and treatment services to juvenile sex offenders. The data collected is needed to assess respondent satisfaction/dissatisfaction with the training project, the clinical success/failure of the training on the juvenile sex offenders, the impact of using traditional healing treatment services with juvenile sex offenders, and to obtain recommendations for future clinical program planning. Affected Public: Individuals and households, State, Local or Tribal Government. Type of Respondents: Health care providers, juveniles, parent/caretakers, and various community members. Please see Table 1 for a listing of data collection instruments, estimated number of respondents, number of responses per respondent, annual number of responses, average burden hour per response, and total annual burden hour.

Table 1
Data collection instruments | Estimated No. of respondents | Responses per respondent | Annual number of responses | Average burden hour per response* | Total annual burden hours
Practitioner Trainee Questionnaire | 159 | 1 | 159 | 0.50 (30 mins) | 79.5
Practitioner Trainee Assessment | 16 | 4 | 64 | 0.17 (10 mins) | 10.9
Practitioner Trainee Interview | 8 | 1 | 8 | 1.00 (60 mins) | 8.0
Juvenile/Adult | 61 | 1 | 61 | 0.50 (30 mins) | 30.5
J/A Re-Offense | 61 | 1 | 61 | 0.17 (10 mins) | 10.4
Parent/Caretaker | 122 | 1 | 122 | 0.50 (30 mins) | 61.0
Community Key Informant Questionnaire | 24 | 1 | 24 | 1.50 (90 mins) | 36.0
Community Key Informant Interview | 24 | 1 | 24 | 1.0 (60 mins) | 24.0
Medical (Treatment and Health Review) | 61 | 1 | 61 | 0.75 (45 mins) | 45.7
Agency Record Review | 61 | 1 | 61 | 1.00 (60 mins) | 61.0
Total | 597 |  |  |  | 367.0
*For ease of understanding, burden hours are also provided in actual minutes.

There are no Capital Costs, Operating Costs and/or Maintenance Costs to report.

Request for Comments: Your written comments and/or suggestions are invited on one or more of the following points: (a) whether the information collection activity is necessary to carry out an agency function; (b) whether the IHS processes the information collected in a useful and timely fashion; (c) the accuracy of the public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Desk Officer for IHS.

To request more information on the proposed collection or to obtain a copy of the data collection instrument(s) and/or instruction(s), contact: Mr. Lance Hodahkwen, Sr., M.P.H., IHS Reports Clearance Officer, 12300 Twinbrook Parkway, Suite 450, Rockville, MD 20852.1601, or call non-toll free (301) 443-5938 or send via facsimile to (301) 443-2316, or send your E-mail requests, comments, and return address to: lhodahkw@hqe.ihs.gov.

Comment Due Date: Comments regarding this information collection are best assured of having their full effect if received on or before May 30, 2000.

Dated: April 11, 2000.
Michael H. Trujillo,
Assistant Surgeon General, Director.

[FR Doc. 00-10543 Filed 4-27-00; 8:45 am]

BILLING CODE 4160-16-M